FEDERAL COMMUNICATIONS COMMISSION

47 CFR Part 90

Private Land Mobile Radio Service

CFR Correction

In Title 47 of the Code of Federal Regulations, Parts 80 to End, revised as of October 1, 2015, on page 413, in § 90.520, the second paragraph (b)(2) is removed.

[FR Doc. 2016-04433 Filed 2-29-16; 8:45 am]

BILLING CODE 1505-01-D